DEPARTMENT OF THE TREASURY

Community Development Financial Institutions Fund: Open Meeting of the Community Development Advisory Board: Change of Meeting Location

AGENCY: Community Development Financial Institutions Fund, Department of the Treasury.

ACTION: Notice of open meeting; Change of meeting location.

SUMMARY: On December 27, 2002, the Community Development Financial Institutions Fund (the “Fund”) announced (67 FR 79242) that there will be a meeting of the Community Development Advisory Board on January 21 and 22, 2003. This notice is to announce that the location of the meeting has been changed. The Community Development Advisory Board meeting will be held at the offices of the Fund, which are located at 601 13th Street, NW., Suite 200-South, Washington, DC.

FOR FURTHER INFORMATION, CONTACT: The Office of External Affairs of the Fund, U.S. Department of Treasury, 601 13th Street, NW., Suite 200 South, Washington, DC, 20005, (202) 622-9046 (this is not a toll free number). Other information regarding the Fund and its programs may be obtained through the Fund's Web site at http://www.cdfifund.gov.

Authority: 12 U.S.C. 4703; Chapter X, Pub. L. 104-19, 109 Stat. 237.

Tony T. Brown,
Director, Community Development Financial Institutions Fund.

[FR Doc. 03-860 Filed 1-13-03; 8:45 am]

BILLING CODE 4810-70-P